DEPARTMENT OF ENERGY

Senior Executive Service; Performance Review Board

AGENCY: Department of Energy.

ACTION: SES Performance Review Board Standing Register.

SUMMARY: This notice provides the Performance Review Board Standing Register for the Department of Energy. This listing supersedes all previously published lists of PRB members.

DATES: These appointments are effective as of September 30, 2004.

Ackerly, Lawrence R, Allison, Jeffrey M., Anderson, Charles E., Anderson, Cynthia V., Anderson, Margot H., Angulo, Veronica A., Aoki, Steven NMN, Arkin, Richard W., Arthur III, William John, Ascanio, Xavier NMN, Ashworth, Dennis J.;

Baca, Frank A., Baca, Mark C., Bailey Jr., Lawrence O., Bajura, Rita A., Baker, Kenneth E., Barker Jr., William L., Bashista, John R., Bauer, Carl O., Beamon, Joseph A., Beard, Susan F., Beckett, Thomas H., Beecy, David J., Benneth, Ruth B., Beserra, Frank J., Bielan, Douglas J., Bieniawski, Andrew J., Black, Richard L., Black, Steven K., Blackwood, Edward B., Bladow, Joel K., Boardman, Karen L.;

Bonilla, Sarah J., Borchardt, Charles A., Borgstrom, Carol M., Borgstrom, Howard G., Bowman, Gerald C., Boyd, Gerald G., Braden Jr., Robert C., Bradley, Samuel M., Breznay, George B., Brodman, John R., Brody, Bruce A., Bromberg, Kenneth M., Bronstein, Eli B., Brown III, Robert J., Brown, Richard D., Brumley, William J., Bubar, Patrice M., Burgeson, Eric R., Burns, Allen L., Burrows, Charles W., Butler, Roger A.;

Callender, Brian W., Campbell, Elizabeth E., Campbell, James Thomas, Carabetta, Ralph A., Caravelli, John M., Cardinali, Henry A., Carlson, John T., Carlson, Kathleen Ann, Carnes, Bruce M., Cary, Steven V., Cavanagh, James J., Cerveny, Thelma J., Chacey, Kenneth A., Chalk, Steven G., Chung, Dae Y., Coburn, Leonard L., Cochran, Diane P., Cole, Almeda C., Combs, Marshall O., Conover, David W., Conti, John J., Cook, John S., Corey, Ray J., Costlow, Brian D., Craig Jr., Jack R., Crandall, David H., Crawford, David W., Cross, Claudia A., Cumesty, Edward G., Curtis, James H., Cygelman, Andre I.;

D'Agostino, Thomas Paul, Daugherty, Maurice W., Davies, Nelia A., Davis, Joseph H., De Alvarez, Alexis C., De Lorenzo, Ralph H., Decker, James F., Dedik, Patricia NMN, Dehmer, Patricia M., Dehoratiis Jr., Guido NMN,

Deihl, Michael A, Delwiche, Gregory K, Demko, Joseph C, Der, Victor K, Desmond Jr., William J, Dever, Gertrude L, Devito, Vincent NMN, Difiglio, Carmen NMN, Dixon, Robert K, Dobriansky, Larisa E, Dooley III, George J, Dyer, J Russell, Edmondson, John J, Egger, Mary H, Elwood, Jerry W, Erickson, Leif NMN, Errington, Gordon V, Esvelt, Terence G;

Faulkner, Douglas L, Fiore, James J, Fitzgerald, Cheryl P, Flanders, Douglass L, Foley, Kathleen Y, Fowler, Jennifer Johnson, Franklin, Charles Anson, Franklin, Rita R, Frazier, Marvin E, Frei, Mark W, Fresco, Maryann E, Fryberger, Teresa A, Fygi, Eric J;

Gale, Barry G, Garber, Janet L, Garland, Robert W, Garrish, Theodore J, Garson, Henry K, Gasperow, Lesley A, Gebus, George R, Gerrard, John E, Gibson Jr, William C, Gilbertson, Mark A, Ginsberg, Mark B, Glenn, Daniel E, Golan, Paul M, Goldman, Peter R, Goldsmith, Robert NMN, Gollomp, Lawrence A, Goodman, Douglas NMN, Goodrum, William S, Gottlieb, Paul A, Greenberg, Raymone F, Greenwood, Johnnie D, Gresham, Larry M, Grose, Amy E, Gruenspecht, Howard K, Guevara, Arnold E, Gunn Jr, Marvin E;

Hacskaylo, Michael S, Hafner, Steven C, Hansen, Charles A, Hardin, Michael G, Hardwick Jr, Raymond J, Harmon, Harvey L, Harris, Robert J, Hartman, John R, Harvey, Tobin K, Hass, Rickey R, Hawthorne, Joan Gates, Hayward, Mary Alice, Headley, Larry C, Hefernan, Barbara J, Henneberger, Karen A, Hibbitts Jr, Howard D, Hickok, Steven G, Hill, David R, Hixon Jr, Harry W, Hodson, Patricia J, Holbrook, Phillip L, Holland, Michael D, Hollowell, Betty L N, Hood, Robert R, Hopf, Richard H, Huizenga, David G, Hunemuller, Maureen A, Hutto III, F Chase;

Izell, Kathy D, Jaffe, Harold NMN, Jenkins, Robert G, Johnson, Frederick M, Johnson, Milton D, Johnson, Robert Shane, Johnson, Sandra L, Johnston, Marc NMN, Jones, C Rick, Jones, Herbert M, Jordan, Robert R, Jordan, Rosalie M, Joseph, Antionette Grayso, Juarez, Liova D;

Kaempf, Douglas E, Kane, Michael C, Kennedy, John P, Kersten, John H, Keselburg, James D, Kight, Gene H, Kilpatrick, Michael A, Kirkendall, Nancy J, Kirkman, Larry D, Klein, Keith A, Knipp, Robert M, Knox, Eric K, Kolb, Ingrid A C;

Kolevar, Kevin M, Konopnicki, Thad T, Kotek, John F, Koury, John F, Kouts, Christopher A, Kovar, Dennis G, Krol, Joseph J, Kruger, Paul W, Kung, Huijou Harriet, Lambert, James B., Lange, Robert G, Lanthrum, J Gary, Lavine, Gary J, Lawrence, Andrew D, Lazor, John D, Lee, Steven NMN, Lehman, Daniel R, Lersten, Cynthia A, Lewis III, Charles B, Lewis Jr, William A, Lewis, Roger A, Lopatto, Jeanne T, Lowe, Owen W, Luczak, Joann H;

Maddox, Mark R, Magwood IV, William D Maharay, William S Male, Barbara D, Malinovsky, Joseph M, Malosh, George J, Mangeno, James J, Mann, Thomas O, Marcinowski III, Frank NMN, Markel Jr, Kenneth E, Marlay, Robert C, Marmolejos, Poli A, Martinez, Eloy Dennis, Masterson, Mary A, McCabe, Michael J, McCarty, Kathryn P, McCloud, Floyd R, McCormick, Matthew S, McCracken, Stephen H, McKee, Barbara N, McKenzie, John M, McMonigle, Joseph P, McMullan, Robert L, McRae, James Bennett, Meeks, Timothy J, Mellington, Suzanne P, Meyer, Charles E, Michelsen, Stephen J, Miller, Clarence L, Miller, Deborah C, Milner, Ronald A, Miotla, Dennis M;

Monette, Deborah D, Monhart, Jane L, Montano, Pedro A, Moorer, Richard F, Morrell, Paul Charles, Mortensen, Richard W, Mortenson, Victor A, Mosquera, James P, Mournighan, Stephen D, Mueller, Troy J, Murphie, William E, Naples, Elmer M, Nealy, Carson L, Newell, John D, Nolan, Elizabeth A, Norman, Paul E;

O'Brien, Betsy K, O'Fallon, John R, Olinger, Shirley J, Oliver, Lawrence R, Oliver, Stephen R, Olson, Dean G, Oosterman, Carl H, Osheim, Elizabeth L, Ott, Merrie Christine, Owen, Michael W, Owendoff, James M, Parkes, Rosita O, Parks Jr, William P, Parnes, Sanford J, Partinos, Aristides A, Pease, Harrison G, Penry, Judith M, Peterson, Bradley A, Piper II, Lloyd L, Podonsky, Glenn S, Powers, Kenneth W, Price Jr, Robert S, Provencher, Richard B, Przybylek, Charles S, Pumphrey, David L;

Rhoderick, Jay E, Richards, Stephen R, Richardson, Herbert NMN, Rispoli, James A, Roach, Randy A, Roberts, Michael NMN, Robinson, David M, Rodeheaver, Thomas N, Rodekohr, Mark E, Rodgers, Stephen J, Rodin, Laura M, Rollow, Thomas A. Rosen, Simon Peter, Rudings, George NMN, Russo, Frank B;

Ryder, Thomas S, Salm, Philip E, Salmon, Jeffrey T, Sato, Walter N, Schepens, Roy J, Schmitt, Eugene C, Schmitt, William A, Schnapp, Robert M, Schoenbauer, Martin J, Schweitzer, Eric A, Schwier, Jean F, Scott, Bruce B, Scott, Randal S, Sellers, Elizabeth D, Shages, John D, Sharpley, Christopher R, Shaw, John S, Shearer, C Russell H, Sheppard Jr, Franklin R, Sheppard, Catherine M, Sherman, Helen O;

Sigal, Jill L, Silbergleid, Steven A, Simpson, Christopher NMN, Simpson, Edward R, Singer, Marvin I, Siskin, Edward J, Sitzer, Scott B, Skubel, Stephen C, Slutz, James A, Smith, Alexandra B, Smith, Denise H, Smith, Kevin W, Snider, Linda J, Sohinki, Stephen M, Solich, Donald J, Spader, William F, Staffin, Robin NMN, Stallman, Robert M, Stark, Richard M, Stevens, Walter J, Stone, Barbara R, Stakey Jr, Joseph P, Strauss, Neal J, Sullivan, John R, Sutula, Raymond A, Swailes, John H, Swift, Justin R;

Taboas, Anibal L, Tavares, Antonio F, Taylor, Steve C, Taylor, William J, Tedrow, Richard T, Torkos, Thomas M, Trautman, Stephen J, Triay, Ines R, Turi, James A, Turner, James M, Underwood, William R, Vagts, Kenneth A, Valdez, William J, Vanzandt, Vickie A;

Wagner, M Patrice, Wahlquist, Earl J, Waisley, Sandra L, Wall, Edward James, Wallace, Terry L, Walsh, Robert J, Warnick, Walter L, Warther, Robert F, Weedall, Michael J, Weis, Michael J, Whitaker Jr, Mark B, Wieker, Thomas L, Wilcher, Larry D, Wilken, Daniel H, Wilkes, Bryan K, Williams, Alice C, Williams, Mark H, Willis, John W, Wilmot, Edwin L, Worthington, Patricia R, Wright, Stephen J, Wunderlich, Robert C, Yuan-Soo Hoo, Camille C, Zamorski, Michael J, Ziegler, Joseph D, Ziesing, Rolf F.

Issued in Washington, DC, November 18, 2004.
Claudia A. Cross,
Chief Human Capital Officer/Director, Office of Human Capital Management.

[FR Doc. 04-26036 Filed 11-23-04; 8:45 am]

BILLING CODE 6450-01-M